DEPARTMENT OF ENERGY

10 CFR Part 430

[Docket No. EERE-2013-BT-STD-0006]

RIN 1904-AC55

Energy Efficiency Program for Commercial and Industrial Equipment: Public Meeting and Availability of the Framework Document for Commercial and Industrial Fans and Blowers

AGENCY: Office of Energy Efficiency and Renewable Energy, Department of Energy.

ACTION: Extension of public comment period.

SUMMARY: The comment period for the notice of public meeting and availability of the Framework Document pertaining to the development of energy conservation standards for commercial and industrial fan and blower equipment published on February 1, 2013, is extended to June 3, 2013.

DATES: The comment period for the notice of public meeting and availability of the Framework Document relating to commercial and industrial fan and blower equipment that published on February 1, 2013, (78 FR 7306) is extended to June 3, 2013.

ADDRESSES: Any comments submitted must identify the framework document for commercial and industrial fans and blowers and provide docket number EERE-2013-BT-STD-0006 and/or RIN number 1904-AC55. Comments may be submitted using any of the following methods:

• Federal eRulemaking Portal: http://www.regulations.gov. Follow the instructions for submitting comments.

• Email: CIFB2013STD0006@EE.Doe.Gov. Include EERE-2013-BT-STD-0006 in the subject line of the message.

• Mail: Ms. Brenda Edwards, U.S. Department of Energy, Building Technologies Program, Mailstop EE-2J, Framework Document for Commercial and Industrial Fans and Blowers, EERE-2013-BT-STD-0006, 1000 Independence Avenue SW., Washington, DC 20585-0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Mr. Charles Llenza, U.S. Department of Energy, Office of Energy Efficiency and Renewable Energy, Building Technologies Office, EE-2J, 1000 Independence Avenue SW., Washington, DC 20585-0121. Telephone: (202) 586-2192. Email: CIFansBlowers@ee.doe.gov.

In the office of the General Counsel, contact Ms. Francine Pinto, U.S. Department of Energy, Office of the General Counsel, GC-71, 1000 Independence Avenue SW., Washington, DC 20585-0121. Telephone: (202) 586-7432. Email: Francine.Pinto@hq.doe.gov.

SUPPLEMENTARY INFORMATION: The U.S. Department of Energy (DOE) published a proposed determination that commercial and industrial fans and blowers (fans) meet the definition of covered equipment under the Energy Policy and Conservation Act of 1975, as amended (76 FR 37628, June 28, 2011). As part of its further consideration of this determination, DOE is analyzing potential energy conservation standards for fans. DOE published a notice of public meeting and availability of the framework document to consider such standards (78 FR 7306, Feb. 1, 2013). The framework document requested public comment from interested parties and provided for the submission of comments by March 18, 2013. Thereafter, Air Movement and Control Association International (AMCA), on behalf of itself and its affiliates, requested an extension of the public comment period by 45 days and DOE extended the initial comment period until May 2, 2013. AMCA further requested an additional extension of the public comment period by 30 days. AMCA stated that the additional time is necessary to conduct a rapid and intensive research project in order to provide DOE with better information at an early stage of the regulatory process, making subsequent phases more efficient and effective.

Based on AMCA's request, DOE believes that extending the comment period to allow additional time for interested parties to submit comments is appropriate. Therefore, DOE is extending the comment period until June 3, 2013 to provide interested parties additional time to prepare and submit comments. Accordingly, DOE will consider any comments received by June 3, 2013 to be timely submitted.

Issued in Washington, DC, on May 1, 2013.
Kathleen B. Hogan,
Deputy Assistant Secretary for Energy Efficiency, Energy Efficiency and Renewable Energy.

[FR Doc. 2013-10734 Filed 5-6-13; 8:45 am]

BILLING CODE 6450-01-P